NUCLEAR REGULATORY COMMISSION

[NRC-2011-0071]

Biweekly Notice; Applications and Amendments to Facility Operating Licenses Involving No Significant Hazards Considerations

I. Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from March 10, 2011, to March 23, 2011. The last biweekly notice was published on March 22, 2011 (76 FR 16004).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Room O1-F21, 11555 Rockville Pike (first floor), Rockville, Maryland 20852.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Room O1-F21, 11555 Rockville Pike (first floor), Rockville, Maryland 20852. Publicly available records will be accessible from the Agencywide Documents Access and Management System's (ADAMS) Public Electronic Reading Room on the Internet at the NRC Web site, http://www.nrc.gov/reading-rm/adams.html. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate. Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Room O1-F21, 11555 Rockville Pike (first floor), Rockville, Maryland 20852. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

STP Nuclear Operating Company, Docket Nos. 50-498 and 50-499, South Texas Project, Units 1 and 2, Matagorda County, Texas

Date of amendment request: November 22, 2010.

Description of amendment request: The proposed change would revise the application of Risk-Managed Technical Specifications (RMTS) to Technical Specification (TS) 3.7.7, “Control Room Makeup and Cleanup Filtration System.” This change will correct a misapplication of the Configuration Risk Management Program (CRMP) that is currently allowed by the Specification.

Basis for proposed no significant hazards consideration determination: As required by 10 CFR 50.91(a), the licensee has provided its analysis of the issue of no significant hazards consideration, which is presented below:

1. Does the proposed change involve a significant increase in the probability or consequences of an accident previously evaluated?

Response: No.

The proposed change allows the Configuration Risk Management Program (CRMP) to be applied to Technical Specification (TS) 3.7.7, “Control Room Makeup and Cleanup Filtration Systems” for the condition where one train of CRHVAC [Control Room Makeup and Cleanup Filtration System] is inoperable only due to the unavailability of cooling. The proposed change extends the AOT [allowed outage time] from 72 hours to 7 days for the condition where two trains of CRHVAC are inoperable only due to the unavailability of cooling. The CRMP cannot be applied to the loss of two trains of cooling.

The change does not involve a significant increase in the probability of an accident previously evaluated because the change does not involve a change to the plant or its modes of operation. In addition, the risk-informed configuration management program will be applied to effectively manage the availability of required structures, systems, and components to assure there is no significant increase in the probability of an accident.

This proposed change does not increase the consequences of an accident because the design-basis mitigation function of the affected systems is not changed and the risk-informed configuration management program will be applied to effectively manage the availability of structures, systems, and components required to mitigate the consequences of an accident.

Therefore, the proposed change does not involve a significant increase in the probability or consequences of an accident previously evaluated.

2. Does the proposed change create the possibility of a new or different kind of accident from any accident previously evaluated?

Response: No.

The proposed change allows the Configuration Risk Management Program (CRMP) to be applied to Technical Specification (TS) 3.7.7, “Control Room Makeup and Cleanup Filtration Systems” for the condition where one train of CRHVAC is inoperable only due to the unavailability of cooling. The proposed change extends the AOT from 72 hours to 7 days for the condition where two trains of CRHVAC are inoperable only due to the unavailability of cooling. The CRMP cannot be applied to the loss of two trains of cooling.

The proposed change will not alter the plant configuration (no new or different type of equipment will be installed) or require any unusual operator actions. The proposed change will not alter the way any structure, system, or component functions, and will not significantly alter the manner in which the plant is operated. The response of the plant and the operators following an accident will not be different. In addition, the proposed change does not introduce any new failure modes.

Therefore, the proposed change does not create the possibility of a new or different kind of accident from any previously evaluated.

3. Does the proposed change involve a significant reduction to a margin of safety?

Response: No.

The proposed change allows the Configuration Risk Management Program (CRMP) to be applied to Technical Specification (TS) 3.7.7, “Control Room Makeup and Cleanup Filtration Systems” for the condition where one train of CRHVAC is inoperable only due to the unavailability of cooling. The proposed change extends the AOT from 72 hours to 7 days for the condition where two trains of CRHVAC are inoperable only due to the unavailability of cooling. The CRMP cannot be applied to the loss of two trains of cooling.

The CRMP implements a risk-informed configuration risk management program in a manner to assure that adequate margins of safety are maintained. Application of the configuration risk management program to TS 3.7.7 complements the risk assessment required by the Maintenance Rule and effectively manages the risk for limiting condition for operation when the Control Room Makeup and Cleanup Filtration Systems are inoperable.

The condition where two trains of CRHVAC are inoperable only due to unavailability of cooling is analogous to the condition where one train of CRHVAC is inoperable due to an adverse impact on the dose mitigation capability. The condition does not make the design basis accident any more probable. The safety function can still be achieved assuming no single failure during the AOT should a low probability DBA [design-basis accident] occur. Therefore, the extension of the AOT for the loss of two cooling trains to the same AOT as that for the loss of one train impacting the dose mitigation function does not significantly reduce the margin of safety.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Branch Chief: Michael T. Markley.

STP Nuclear Operating Company, Docket Nos. 50-498 and 50-499, South Texas Project, Units 1 and 2, Matagorda County, Texas

Date of amendment request: December 21, 2010.

Description of amendment request: The proposed change would revise Technical Specification (TS) 5.3.1, “Fuel Assemblies,” to add Optimized ZIRLO™ as an approved fuel rod cladding material, and TS 6.9.1.6, “Core Operating Limits Report (COLR),” to add a Westinghouse topical report to the analytical methods used to determine the core operating limits. This change is consistent with use of Optimized ZIRLO™ for fuel rod cladding material as described in Addendum 1-A to Westinghouse topical report WCAP-12610-P-A & CENPD-404-P-A, “Optimized ZIRLO™.”

STP Nuclear Operating Company has also requested an exemption from the provisions of 10 CFR 50.46, “Acceptance criteria for emergency core cooling systems for light-water nuclear power reactors,” and Appendix K to 10 CFR Part 50, “ECCS Evaluation Models,” to allow fuel rods with Optimized ZIRLO™ cladding to be used in core reloads.

Basis for proposed no significant hazards consideration determination: As required by 10 CFR 50.91(a), the licensee has provided its analysis of the issue of no significant hazards consideration, which is presented below:

1. Does the proposed change involve a significant increase in the probability or consequences of an accident previously evaluated?

Response: No.

The proposed Technical Specification change is to add Optimized ZIRLO™ to the allowable or approved cladding materials to be used at the South Texas Project. Adding Optimized ZIRLO™ cladding material does not increase the probability or consequences of an accident previously evaluated.

Westinghouse topical report WCAP-12610-P-A & CENPD-404-P-A, Addendum 1-A “Optimized ZIRLO™,” July 2006, provides the details and results of material testing of Optimized ZIRLO™ compared to standard ZIRLO™ as well as the material properties to be used in various models and methodologies when analyzing Optimized ZIRLO™. As the nuclear industry pursues longer operating cycles with increased fuel discharge burnup and fuel duty, the corrosion performance requirements for the nuclear fuel cladding become more demanding. Optimized ZIRLO™ was developed to meet these needs and provides a reduced corrosion rate while maintaining the benefits of mechanical strength and resistance to accelerated corrosion from abnormal chemistry conditions. In addition, fuel rod internal pressures (resulting from the increased fuel duty, use of integral fuel burnable absorbers, and corrosion/temperature feedback effects) have become more limiting with respect to fuel rod design criteria. Reducing the associated corrosion buildup and thus minimizing temperature feedback effects, provides additional margin to the fuel rod internal pressure design criterion. Therefore, adding Optimized ZIRLO™ to the approved fuel rod cladding materials does not significantly increase the probability or consequences of an accident previously evaluated.

The NRC allows Optimized ZIRLO™ to be used as fuel cladding material in Westinghouse-fueled reactors provided that licensees ensure compliance with the conditions and limitations set forth within NRC Safety Evaluation for the topical report. The conditions and limitations are the current requirements and confirmation of these conditions is required as part of the core reload process.

2. Does the proposed change create the possibility of a new or different kind of accident from any accident previously evaluated?

Response: No.

Optimized ZIRLO ™ provides a reduced fuel cladding corrosion rate while maintaining the benefits of mechanical strength and resistance to accelerated corrosion from abnormal chemistry conditions. The fuel rod design bases are established to satisfy the general and specific safety criteria addressed in UFSAR [Updated Final Safety Analysis Report] Chapter 15, Accident Analyses and in Technical Specifications. Fuel rods are designed to prevent excessive fuel temperatures, excessive internal rod gas pressures due to fission gas releases, and excessive cladding stresses and strains. WCAP-12610-P-A & CENPD-404-P-A, Addendum 1-A “Optimized ZIRLO ™,” July 2006, provides the details and results of material testing of Optimized ZIRLO ™ compared to standard ZIRLO ™ as well as the material properties to be used in various models and methodologies when analyzing Optimized ZIRLO ™. The original design-basis requirements are maintained. Therefore, the change in material does not create the possibility of an accident or malfunction not previously evaluated.

3. Does the proposed change involve a significant reduction in a margin of safety?

Response: No.

The cladding material used in the fuel rods is designed and tested to prevent excessive fuel temperatures, excessive internal rod gas pressure due to fission gas releases, and excessive cladding stresses and strains. Optimized ZIRLO ™ was developed to meet these needs and provides a reduced corrosion rate while maintaining the benefits of mechanical strength and resistance to accelerated corrosion from abnormal chemistry conditions. Westinghouse topical report WCAP-12610-P-A & CENPD-404-P-A, “Optimized ZIRLO ™,” July 2006, provides the details and results of material testing of Optimized ZIRLO ™ compared to standard ZIRLO ™ as well as the material properties to be used in various models and methodologies when analyzing Optimized ZIRLO ™. The NRC approved use of Optimized ZIRLO ™ fuel cladding material as detailed in the Safety Evaluation. The original design-basis requirements are maintained.

The change in material does not significantly reduce margin required to preclude or reduce the effects of an accident or malfunction previously evaluated in the UFSAR.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1-800-397-4209, 301-415-4737 or by e-mail to pdr.resource@nrc.gov.

Calvert Cliffs Nuclear Power Plant, LLC, Docket No. 50-318, Calvert Cliffs Nuclear Power Plant, Unit 2, Calvert County, Maryland

Date of application for amendment: October 4, 2010, as supplemented by letter dated December 9, 2010.

Brief description of amendment: The amendment will revise Technical Specification 5.5.16, “Containment Leakage Rate Testing Program,” to allow a one-time 5-year extension of the containment Integrated leak rate test (CILRT) interval from 10 to 15 years. This will require the licensee to perform its next CILRT no later than May 1, 2016.

Date of issuance: March 22, 2011.

Effective date: As of the date of issuance to be implemented within 45 days.

Amendment No.: 274.

Renewed License No. DPR-69: Amendment revised the License and Technical Specifications.

Date of initial notice in Federal Register: January 11, 2011 (76 FR 1646). The letter dated December 9, 2010, provided additional information that clarified the application, did not expand the scope of the application as originally noticed, and did not change the staff's original proposed no significant hazards consideration determination as published in the Federal Register.

The Commission's related evaluation of the amendment is contained in a Safety Evaluation dated March 22, 2011.

No significant hazards consideration comments received: No.

Duke Energy Carolinas, LLC, Docket Nos. 50-269, 50-270, and 50-287, Oconee Nuclear Station, Units 1, 2, and 3, Oconee County, South Carolina

Date of application of amendments: March 17, 2010, as supplemented January 14, 2011.

Brief description of amendments: The amendments revised the Technical Specifications (TSs) to adopt Technical Specification Task Force (TSTF)—425, Revision 3, “Relocate Surveillance Frequencies to Licensee Control—Risk Informed TSTF Initiative 5b”. When implemented, TSTF-425 Revision 3 relocates specific periodic frequencies of TSs surveillances to a licensee-controlled program, the Surveillance Frequency Control Program, and will provide requirements for the new program in the Administrative Controls section of TSs.

Date of Issuance: March 21, 2011.

Effective date: As of the date of issuance and shall be implemented within 180 days from the date of issuance.

Amendment Nos.: Unit 1-372, Unit 2-374, and Unit 3-373.

Renewed Facility Operating License Nos. DPR-38, DPR-47, and DPR-55: Amendments revised the licenses and the technical specifications.

Date of initial notice in Federal Register: September 7, 2010 (75 FR 54393). The supplement dated January 14, 2011, provided additional information that clarified the application, did not expand the scope of the application as originally noticed, and did not change the staff's original proposed no significant hazards consideration determination.

The Commission's related evaluation of the amendments is contained in a Safety Evaluation dated March 21, 2011.

No significant hazards consideration comments received: No.

Energy Northwest, Docket No. 50-397, Columbia Generating Station, Benton County, Washington

Date of amendment request: March 29, 2010, as supplemented by letter dated January 14, 2011.

Brief description of amendment: The amendment revised Technical Specification (TS) 3.3.6.1, “Primary Containment Isolation Instrumentation,” by deleting channel check Surveillance Requirement 3.3.6.1.1 from TS Table 3.3.6.1-1, “Primary Containment Isolation Instrumentation,” for the traversing in-core probe (TIP) isolation instrumentation.

Date of issuance: March 18, 2011.

Effective date: As of the date of issuance and shall be implemented within 30 days of issuance.

Amendment No.: 220.

Facility Operating License No. NPF-21: Amendment revised the Facility Operating License and Technical Specifications.

Date of initial notice in Federal Register: June 1, 2010 (75 FR 30444). The supplemental letter dated January 14, 2011, provided additional information that clarified the application, did not expand the scope of the application as originally noticed, and did not change the staff's original proposed no significant hazards consideration determination as published in the Federal Register.

The Commission's related evaluation of the amendment is contained in a Safety Evaluation dated March 18, 2011.

No significant hazards consideration comments received: No.

Entergy Operations, Inc., Docket No. 50-382, Waterford Steam Electric Station, Unit 3, St. Charles Parish, Louisiana

Date of amendment request: February 22, 2010, as supplemented by letters dated June 8 and August 12, 2010, and January 4 and March 7, 2011.

Brief description of amendment: The amendment added valve SI-4052A (Reactor Coolant Loop (RCL) 2 Shutdown Cooling (SDC) suction inside containment bypass isolation) and valve SI-4052B (RCL 1 SDC suction inside containment bypass isolation) to Technical Specification Table 3.4-1, “Reactor Coolant System Pressure Isolation Valves.” This bypass line equalizes the SDC system pressure downstream of valve SI-405A (RCL 2 SDC suction inside containment isolation) and valve SI-405B (RCL 1 SDC suction inside containment isolation) in order to minimize the pressure transient in the system when valves SI-405A(B) are opened.

Date of issuance: March 23, 2011.

Effective date: As of the date of issuance and shall be implemented prior to Mode 4 following refueling outage 17.

Amendment No.: 233.

Facility Operating License No. NPF-38: The amendment revised the Facility Operating License and Technical Specifications.

Date of initial notice in Federal Register: April 20, 2010 (75 FR 20633). The supplemental letters dated June 8 and August 12, 2010, and January 4 and March 7, 2011, provided additional information that clarified the application, did not expand the scope of the application as originally noticed, and did not change the staff's original proposed no significant hazards consideration determination as published in the Federal Register.

The Commission's related evaluation of the amendment is contained in a Safety Evaluation dated March 23, 2011.

No significant hazards consideration comments received: No.

Nine Mile Point Nuclear Station, LLC, Docket No. 50-220, Nine Mile Point Nuclear Station, Unit 1 (NMP1), Oswego County, New York

Date of application for amendment: March 18, 2010.

Brief description of amendment: The amendment revises the NMP1 Technical Specifications (TSs) for snubbers by removing TS ¾.6.4, “Shock Suppressors (Snubbers),” relocating these requirements to a licensee-controlled document, and adding a new limiting condition for operation, LCO 3.0.8, related to snubbers. In addition, the TS Table of Contents is revised to reflect these changes. The addition of LCO 3.0.8 is consistent with the industry Technical Specification Task Force (TSTF) Traveler TSTF 372-A, Revision 4, “Addition of LCO 3.0.8, Inoperability of Snubbers.” A notice of the TSTF-372-A, Revision 4 TS improvement was published in the Federal Register on May 4, 2005 (70 FR 23252) as part of the Consolidated Line Item Improvement Process.

Date of issuance: March 10, 2011.

Effective date: As of the date of issuance to be implemented within 60 days.

Amendment No.: 207.

Renewed Facility Operating License No. DPR-63: The amendment revises the License and TSs.

Date of initial notice in Federal Register: July 13, 2010 (75 FR 39979).

The Commission's related evaluation of the amendment is contained in a Safety Evaluation dated March 10, 2011.

No significant hazards consideration comments received: No.

Nine Mile Point Nuclear Station, LLC, Docket No. 50-220, Nine Mile Point Nuclear Station, Unit No. 1 (NMP1), Oswego County, New York

Date of application for amendment: March 22, 2010.

Brief description of amendment: The amendment revises the NMP1 Technical Specifications (TSs) Surveillance Requirement (SR) 4.3.7.b. by modifying the frequency of this SR from “at least once per operating cycle” to “following maintenance that could result in nozzle blockage.” Additionally, the SR is revised to be more reflective of the Standard TS SR by deleting references to the type of test (e.g., air) performed and deleting references to the spray headers.

Date of issuance: March 16, 2011.

Effective date: As of the date of issuance to be implemented within 60 days.

Amendment No.: 208.

Renewed Facility Operating License No. DPR-63: The amendment revises the License and TSs.

Date of initial notice in Federal Register: July 13, 2010 (75 FR 39980).

The Commission's related evaluation of the amendment is contained in a Safety Evaluation dated March 16, 2011.

No significant hazards consideration comments received: No.

PSEG Nuclear LLC, Docket Nos. 50-272 and 50-311, Salem Nuclear Generating Station, Unit 1 and 2, Salem County, New Jersey

Date of application for amendments: March 23, 2010, as supplemented on November 19, 2010, January 31, 2011, and February 23, 2011.

Brief description of amendments: The amendments modify the Technical Specifications (TSs) by relocating specific surveillance frequencies to a licensee-controlled program. The changes are based on Nuclear Regulatory Commission-approved TS Task Force (TSTF) change TSTF-425, Revision 3, “Relocate Surveillance Frequencies to Licensee Control—RITSTF [Risk-Informed TSTF] Initiative 5b.”

Date of issuance: March 21, 2011.

Effective date: As of the date of issuance, to be implemented within 120 days.

Amendment Nos.: 299 and 282.

Facility Operating License Nos. DPR-70 and DPR-75: The amendments revised the TSs and the Facility Operating Licenses.

Date of initial notice in Federal Register: June 15, 2010 (75 FR 33843). The letters dated November 19, 2010, January 31, 2011, and February 23, 2011, provided clarifying information that did not change the initial proposed no significant hazards consideration determination or expand the application beyond the scope of the original Federal Register notice.

The Commission's related evaluation of the amendments is contained in a Safety Evaluation dated March 21, 2011.

No significant hazards consideration comments received: No.

Southern Nuclear Operating Company, Inc., Docket Nos. 50-424 and 50-425, Vogtle Electric Generating Plant, Units 1 and 2, Burke County, Georgia

Date of application for amendments: November 23, 2010.

Brief description of amendments: The amendments revised the Technical Specifications (TSs) 5.5.9, “Steam Generator (SG) Program,” to exclude portions of the tube below the top of the SG tubesheet from periodic SG tube inspection for Unit 1 during Refueling Outage 16 and the subsequent operating cycle and for Unit 2 during Refueling Outage 15 and the subsequent operating cycle. In addition, this amendment revised TS 5.6.10, “Steam Generator Tube Inspection Report,” to remove the reference to previous interim alternate repair criteria and provide reporting requirements specific to the temporary alternate repair criteria.

Date of issuance: March 14, 2011.

Effective date: As of the date of issuance and shall be implemented within 30 days from the date of issuance.

Amendment Nos.: Unit 1-160 and Unit 2-142.

Facility Operating License Nos. NPF-68 and NPF-81: Amendments revised the licenses and the technical specifications.

Date of initial notice in Federal Register: January 4, 2011 (76 FR 388).

The Commission's related evaluation of the amendments is contained in a Safety Evaluation dated March 14, 2011.

No significant hazards consideration comments received: No.

STP Nuclear Operating Company, Docket Nos. 50-498 and 50-499, South Texas Project, Units 1 and 2, Matagorda County, Texas

Date of amendment request: May 18, 2010, as supplemented by letter dated October 5, 2010.

Brief description of amendments: The amendments eliminated the Residual Heat Removal (RHR) system design criterion for diversity among the three Reactor Coolant System pressure transmitters that generate interlocks for three series-pairs of RHR suction isolation valves. The change allows similarly qualified pressure transmitters to be used in more than one RHR train as necessary regardless of manufacturer of the transmitters. The revision is incorporated in the Updated Final Safety Analysis Report for South Texas Project, Units 1 and 2.

Date of issuance: March 22, 2011.

Effective date: As of the date of issuance and shall be implemented within 60 days of issuance.

Amendment Nos.: Unit 1-194; Unit 2-182.

Facility Operating License Nos. NPF-76 and NPF-80: The amendments revised the Facility Operating Licenses and Updated Final Safety Analysis Report.

Date of initial notice in Federal Register: September 21, 2010 (75 FR 57528). The supplemental letter dated October 5, 2010, provided additional information that clarified the application, did not expand the scope of the application as originally noticed, and did not change the staff's original proposed no significant hazards consideration determination as published in the Federal Register.

The Commission's related evaluation of the amendments is contained in a Safety Evaluation dated March 22, 2011.

No significant hazards consideration comments received: No.

Dated at Rockville, Maryland, this 23rd day of March 2011.
For the Nuclear Regulatory Commission.
Joseph G. Giitter,
Director, Division of Operating Reactor Licensing, Office of Nuclear Reactor Regulation.

[FR Doc. 2011-7740 Filed 4-4-11; 8:45 am]

BILLING CODE 7590-01-P